DEPARTMENT OF COMMERCE

National Institute of Standards and Technology

[Docket No.: 070927542-7543-01]

Voting Equipment Evaluations Phase II

AGENCY: National Institute of Standards and Technology, Commerce.

ACTION: Notice.

SUMMARY: In accordance with the provisions of the Help America Vote Act (HAVA), the National Institute of Standards and Technology (NIST) conducted initial benchmark research (Phase I) on voting equipment used in the 2004 elections. (See: http://vote.nist.gov/meeting-08172007/Usability-Benchmarks-080907.doc). NIST is soliciting interest in Phase II of the benchmark research for voting equipment certified or submitted for certification to the 2005 Voluntary Voting System Guidelines. The NIST research is designed to: (1) Determine the realistic usability benchmarks for current and future voting system technology to support usability performance standards in next generation voluntary voting systems standards, and (2) develop usability test protocols for conformance testing of such standards. NIST may also examine relevant instructions, documentation and error messages, without doing any direct usability studies thereon. Manufacturers interested in participating in Phase II of this research will be asked to execute a Letter of Understanding. Interested parties are invited to contact NIST for information regarding participation, Letters of Understanding and shipping.

DATES: Manufacturers who wish to participate in the program must submit a request and an executed Letter of Understanding by 5 p.m. Eastern Standard Time on March 18, 2008.

ADDRESSES: Letters of Understanding may be obtained from and should be submitted to Allan C. Eustis, National Institute of Standards and Technology, Information Technology Laboratory Office, Technology Building 222, Room A328, 100 Bureau Drive, Mail Stop 8970, Gaithersburg, MD 20899-8970. Letters of Understanding may be faxed to: Allan C. Eustis at (301) 975-6097.

FOR FURTHER INFORMATION CONTACT: For shipping and further information, you may telephone Allan C. Eustis at (301) 975-5099, or e-mail: allan.eustis@nist.gov.

SUPPLEMENTARY INFORMATION: In accordance with the provisions of the Help America Vote Act (Pub. L. 107-252), the National Institute of Standards and Technology (NIST) will be conducting Phase II research on voting equipment certified or submitted for certification to the 2005 Voluntary Voting System Guidelines. NIST Phase I and NIST Phase II research support Technical Guidelines Development Committee Resolution 05-05, Human Performance-Based Standards and Usability Testing, and are designed to: (1) Determine the realistic usability benchmarks for current voting system technology to support usability performance standards in next generation voluntary voting systems standards, and (2) develop usability test protocols for conformance testing of such standards. NIST may also examine relevant instructions, documentation and error messages, without doing any direct usability studies thereon. Phase I provided research for determining initial benchmarks (see: http://vote.nist.gov/meeting-08172007/Usability-Benchmarks-080907.doc), and Phase II continues the research to develop usability test protocols.

Interested manufacturers should contact NIST at the address given above. NIST will supply a Letter of Understanding, which the manufacturer must execute and send back to NIST. NIST will then provide the manufacturer with shipping instructions for the manufacturer's equipment.

The equipment provided will be returned to the manufacturer after the NIST experiments, approximately one year from commencement of the experiments. Manufacturers should be aware that some of the testing could damage or destroy the equipment, although NIST expects only normal wear and tear associated with approximately 100 to 1,000 votes cast on the equipment by simulated voters. At the conclusion of the experiments, the equipment will be returned to the manufacturer in its post-testing condition. Neither NIST, nor the Election Assistance Commission, nor the Technical Guidelines Development Committee, will be responsible for the condition of the equipment when returned to the manufacturer. As a condition for participating in this program, each manufacturer must agree in advance to hold harmless all of these parties for the condition of the equipment.

Information acquired during the tests regarding potential usability problems will be reported to the respective manufacturer. Results for identifiable vendor equipment will not be released. Comparative information may be released in a blind manner. Performance standards benchmarks and conformance test procedures will be made publicly available.

Participating manufacturers should include or provide a technical tutorial on the setup and deployment of the equipment. NIST will pay all shipping costs, and there is no cost to the manufacturer for the testing. No modification to the equipment is permitted during the testing process.

Voting equipment certified or submitted for certification to the 2005 Voluntary Voting System Guidelines that will be accepted for the experiments includes Direct Recording Electronic, and Optical Scan systems and Accessible Voting Systems used to cast and count votes as well as software used for ballot design and creation.

Dated: November 9, 2007.
Richard F. Kayser,
Acting Deputy Director.

[FR Doc. E7-22570 Filed 11-16-07; 8:45 am]

BILLING CODE 3510-13-P